INTERNATIONAL TRADE COMMISSION

[USITC SE-00-023]

Sunshine Act Meeting

Agency Holding the Meeting: International Trade Commission.

Time and Date: June 5, 2000 at 2 p.m.

Place: Room 101, 500 E Street SW, Washington, DC 20436, Telephone: (202) 205-2000.

Status: Open to the public.

Matters to be Considered:

1. Agenda for future meeting: None.

2. Minutes.

3. Ratification List.

4. Inv. No. 731-TA-851 (Final) (Synthetic Indigo from China)—briefing and vote. (The Commission will transmit its determination to the Secretary of Commerce on June 12, 2000.).

5. Outstanding action jackets: None.

In accordance with Commission policy, subject matter listed above, not disposed of at the scheduled meeting, may be carried over to the agenda of the following meeting.

Issued: May 25, 2000.
By order of the Commission.
Donna R. Koehnke,
Secretary.

[FR Doc. 00-13805 Filed 5-30-00; 10:18 am]

BILLING CODE 7020-02-U